DEPARTMENT OF ENERGY

Federal Energy Regulatory Commission

[Docket Nos. EG07-75-000, EG07-76-000, EG07-77-000 EG07-78-000, EG07-79-000]

FH Opco LLC, Logan Wind Energy, LLC, Airtricity Champion Wind Farm, LLC, Airtricity Roscoe Wind Farm, LLC, NRG Texas Power LLC; Notice of Effectiveness of Exempt Wholesale Generator Status

November 14, 2007.

Take notice that during the month of October 2007, the status of the above-captioned entities as Exempt Wholesale Generators became effective by operation of the Commission's regulations. 18 CFR 366.7(a).

Kimberly D. Bose,
Secretary.

[FR Doc. E7-22825 Filed 11-21-07; 8:45 am]

BILLING CODE 6717-01-P